DEPARTMENT OF TRANSPORTATION

Federal Aviation Administration

14 CFR Part 39

[Docket No. 2003-NM-277-AD]

RIN 2120-AA64

Airworthiness Directives; Airbus Model A330, A340-200, and A340-300 Series Airplanes

AGENCY: Federal Aviation Administration, DOT.

ACTION: Notice of proposed rulemaking (NPRM).

SUMMARY: This document proposes the adoption of a new airworthiness directive (AD) that is applicable to certain Airbus Model A330, A340-200, and A340-300 series airplanes. This proposal would require inspecting the ram air turbine actuator (RAT) to determine its serial number; and re-identifying the RAT actuator, inspecting the RAT actuator to determine whether the rotary solenoids are in the correct position, and replacing the RAT actuator, as applicable. This action is necessary to prevent failure of the RAT actuator to deploy when necessary during flight, which could result in reduced controllability of the airplane. This action is intended to address the identified unsafe condition.

DATES: Comments must be received by May 3, 2004.

ADDRESSES: Submit comments in triplicate to the Federal Aviation Administration (FAA), Transport Airplane Directorate, ANM-114, Attention: Rules Docket No. 2003-NM-277-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-277-AD” in the subject line and need not be submitted in triplicate. Comments sent via the Internet as attached electronic files must be formatted in Microsoft Word 97 or 2000 or ASCII text.

The service information referenced in the proposed rule may be obtained from Airbus, 1 Rond Point Maurice Bellonte, 31707 Blagnac Cedex, France. This information may be examined at the FAA, Transport Airplane Directorate, 1601 Lind Avenue, SW., Renton, Washington.

FOR FURTHER INFORMATION CONTACT: Gary Lium, Aerospace Engineer, International Branch, ANM-116, FAA, Transport Airplane Directorate, 1601 Lind Avenue, SW., Renton, Washington 98055-4056; telephone (425) 227-1112; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-277-AD.” The postcard will be date stamped and returned to the commenter.

Availability of NPRMs

Any person may obtain a copy of this NPRM by submitting a request to the FAA, Transport Airplane Directorate, ANM-114, Attention: Rules Docket No. 2003-NM-277-AD, 1601 Lind Avenue, SW., Renton, Washington 98055-4056.

Discussion

The Direction Générale de l'Aviation Civile (DGAC), which is the airworthiness authority for France, notified the FAA that an unsafe condition may exist on certain Airbus Model A330, A340-200, and A340-300 series airplanes. The DGAC advises that, during ground tests on a Model A330 series airplane, the ram air turbine (RAT) actuator failed to deploy when commanded. Investigation revealed that the failure was caused by incorrectly adjusted rotary solenoids in the RAT actuator. This condition, if not corrected, could result in failure of the RAT actuator to deploy when necessary during flight, which could result in reduced controllability of the airplane.

The same RAT actuator part numbers that are installed on Model A330 series airplanes are also installed on Model A340-200 and -300 series airplanes. Therefore, those airplanes may be subject to the same unsafe condition revealed on the Model A330 series airplanes.

Explanation of Relevant Service Information

Airbus has issued Service Bulletins A330-29-3083, dated August 6, 2002; and A340-29-4064, Revision 01, dated August 8, 2002. Those service bulletins describe procedures for inspecting the RAT actuator to determine its serial number, and re-identifying RAT actuators that are not affected (i.e., subject to additional inspection) with a new part number. For a RAT actuator with an affected serial number, the service bulletins describe procedures for performing a detailed inspection of the RAT actuator to determine whether the rotary solenoids are in the correct position; and replacing the RAT actuator with a new or serviceable actuator (including adjusting and testing the replaced RAT), or re-identifying the RAT actuator with a new part number, as applicable. Accomplishment of the actions specified in the applicable service bulletin is intended to adequately address the identified unsafe condition. The DGAC classified these service bulletins as mandatory and issued French airworthiness directives 2002-422(B) R1 and 2002-423(B) R1, both dated January 22, 2003, to ensure the continued airworthiness of these airplanes in France.

The Airbus service bulletins refer to Hamilton Sundstrand Service Bulletin ERPS06M-29-16, dated July 18, 2002; and Liebherr-Aerospace Service Bulletin 1560A-29-03, dated July 8, 2002; as additional sources of service information for identifying and inspecting subject RAT actuators, determining whether inspection findings are within acceptable limits, and re-identifying actuators if necessary.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the Airbus service bulletins described previously, except as discussed below.

Difference Between This Proposed AD and Service Bulletins

Although the Liebherr-Aerospace service bulletin described previously specifies completing and returning a sheet recording compliance with that service bulletin, this proposed AD would not require this action.

Although the Airbus and Liebherr-Aerospace service bulletins described previously specify returning removed actuators to Liebherr-Aerospace for inspection, this proposed AD would not require this action.

Cost Impact

The FAA estimates that 9 Model A330 series airplanes of U.S. registry would be affected by this proposed AD, that it would take approximately 4 work hours per airplane to accomplish the proposed inspection, and that the average labor rate is $65 per work hour. Based on these figures, the cost impact of the proposed AD on U.S. operators is estimated to be $2,340, or $260 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Currently, there are no affected Model A340-200 or -300 airplanes on the U.S. Register. However, if an affected airplane is imported and placed on the U.S. Register in the future, it will be subject to the same costs stated above for the Model A330 series airplanes.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2003-NM-277-AD.

Applicability: Model A330, A340-200, and 340-300 series airplanes; certificated in any category; equipped with a ram air turbine (RAT) module, Model ERPS06M, having part number (P/N) 766351, 768084, 770379, 770952, or 770952A; and containing RAT actuator P/N 5911905, 5911326, or 5913234.

Compliance: Required as indicated, unless accomplished previously.

To prevent failure of the RAT actuator to deploy when necessary during flight, which could result in reduced controllability of the airplane, accomplish the following:

Service Bulletin Reference

(a) The term “service bulletin,” as used in this AD, means the Accomplishment Instructions of the service bulletins listed in paragraphs (a)(1) and (a)(2) of this AD. Although these service bulletins specify returning removed actuators to Liebherr-Aerospace for inspection, this AD does not require this action.

(1) For Model A330 series airplanes: Airbus Service Bulletin A330-29-3083, dated August 6, 2002.

(2) For Model A340-200 and -300 series airplanes: Airbus Service Bulletin A340-29-4064, Revision 01, dated August 8, 2002.

Note 1: The service bulletins refer to Hamilton Sundstrand Service Bulletin ERPS06M-29-16, dated July 18, 2002; and Liebherr-Aerospace Service Bulletin 1560A-29-03, dated July 8, 2002; as additional sources of service information for identifying and inspecting subject RAT actuators, determining whether inspection findings are within acceptable limits, and re-identifying actuators if necessary. Although the Liebherr-Aerospace service bulletin specifies completing and returning a sheet recording compliance with that service bulletin and returning removed actuators for inspection, this AD does not require these actions.

Serial Number Inspection

(b) Within 24 months after the effective date of this AD, inspect the RAT actuator to determine its serial number (S/N), per the applicable service bulletin. If the RAT actuator has a S/N greater than 1286, re-identify the RAT actuator, per the applicable service bulletin. No further action is required by this paragraph.

Inspection to Determine Position of Rotary Solenoids

(c) If the RAT actuator has a S/N less than or equal to 1286: Within 24 months after the effective date of this AD, perform a one-time detailed inspection of the RAT actuator to determine whether the rotary solenoids are in the correct position, per the applicable service bulletin.

(1) If the position of the rotary solenoids is within the limits specified in the applicable service bulletin: Before further flight, re-identify the RAT actuator, per the applicable service bulletin.

(2) If the position of the rotary solenoids is outside the limits specified in the applicable service bulletin: Before further flight, replace the RAT actuator with a new or serviceable actuator, per the applicable service bulletin.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Parts Installation

(d) As of the effective date of this AD, no person may install, on any airplane, a RAT actuator having P/N 5911905, 5911326, or 5913234, unless the actions required by this AD are accomplished.

Alternative Methods of Compliance

(e) In accordance with 14 CFR 39.19, the Manager, International Branch, ANM-116, Transport Airplane Directorate, FAA, is authorized to approve alternative methods of compliance for this AD.

Note 3: The subject of this AD is addressed in French airworthiness directives 2002-422(B) R1 and 2002-423(B) R1, both dated January 22, 2003.

Issued in Renton, Washington, on March 25, 2004.
Kalene C. Yanamura,
Acting Manager, Transport Airplane Directorate, Aircraft Certification Service.

[FR Doc. 04-7293 Filed 3-31-04; 8:45 am]

BILLING CODE 4910-13-P